DEPARTMENT OF DEFENSE

Department of the Army

Privacy Act of 1974; System of Records

AGENCY: Department of the Army, DoD.

ACTION: Notice to Amend a System of Records.

SUMMARY: The Department of the Army is amending a system of records notice in its existing inventory of records systems subject to the Privacy Act of 1974, (5 U.S.C. 552a), as amended.

DATES: This proposed action will be effective without further notice on Febuary 4, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: December 21, 2001.
Patricia L. Toppings,
Alternate OSD Federal Register Liaison Officer, Department of Defense.

A0351 DAPE

System name:

Army Training Requirements and Resources System (ATRRS) (March 29, 2000, 65 FR 16568).

Changes:

* * * * *

Retention and disposal:

Delete entry and replace with “The following ATRRS reports are permanent for the offices performing Army-wide responsibility only: Army Program for Individual Training (ARPRINT), the Mobilization Army Program for Individual Training (MOB ARPRINT), and the Military Manpower Training Report (MMTR).

For all other offices, the ARPRINT, MOB ARPRINT and MMTR reports and all other ATRRS reports are kept until no longer needed for conducting business, but not longer than 6 years, then destroyed.

Records not classified as reports are destroyed when no longer needed for current operations.”

* * * * *

A0351 DAPE

System name:

Army Training Requirements and Resources System (ATRRS).

System location:

Deputy Chief of Staff for Personnel, Headquarters, Department of the Army, 300 Army Pentagon, Washington, DC 20310-0300; U.S. Army Personnel Command; major commands; Army Reserve Personnel Center; National Guard Bureau; Schools and Army Training Centers worldwide. Official mailing addresses are published as an appendix to the Army’s compilation of systems of records notices.

Categories of individuals covered by the system:

Members of the Army, Navy, Air Force, Marine Corps, Reserve Officers' Training Corps students, Department of Defense (DoD) civilian employees and approved foreign military personnel attending a course of instruction conducted under the auspices of all Army schools and some DoD schools.

Categories of records in the system:

The system contains records pertaining to course administrative data, course scope and prerequisites, course training requirements, course equipment, personnel and facilities constraints, requirements for instructors, class schedules, class quotas, prioritized order of merit list for input into Noncommissioned Officers Education System (NCOES) training, by name reservations, limited individual personnel data, and course input and completion data by name/Social Security Number. Data related to an individual is as follows:

Training course completion data and reason codes for attrition are maintained for an individual, as well as training seat reservations.

Limited personnel data is maintained on an individual as long as the individual has a valid reservation for training or is currently in the training base.

Authority for maintenance of the system:

5 U.S.C. 301, Departmental Regulations; 10 U.S.C. 3013, Secretary of the Army and 4301; and E.O. 9397 (SSN).

Purpose(s):

The Army Training Requirements and Resources System is the system of records for the management of personnel input to training for the Army; is the repository for training requirements, training programs, selected training cost data, and training personnel data; contains detailed class information on all courses taught and taken by Army personnel; and produces reports and analyses and can display selected data pertinent to training-requirements, programs, inputs, graduates, loads and associated information.

Training managers use this information to schedule classes, fill training seats, and train soldiers.

The major subsystems of the Army Training Requirements and Resources System include:

(a) The Mobilization Planning System is used to plan individual training requirements and training programs for all courses upon mobilization. The product of Mobilization Planning System is the Mobilization Army Program for Individual Training.

(b) The Structure Manning Decision Review (SMDR) is the process for reviewing training requirements and modifying them into executable training programs based on available resources. The product of the SMDR is the Army Program for Individual Training which is the mission and resourcing document used by schools and training centers to establish class schedule. Additionally, the Training Resource Arbitration Panel is used to adjust training programs during the execution year.

(c) The Student Trainee Management System—Enlisted manages initial entry training seats and provides projected graduate information to PERSCOM.

(d) The Quota Management System is used to allocate training quotas by class and redistribute those seats among components in order to maximize the fill of training seats.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Electronic storage medium.

Retrievability:

Retrieved by individual's name and Social Security Number.

Safeguards:

Visitor registration system is in effect. Hard copy printouts which contain data by Social Security Number are maintained with an ‘Official Use Only’ cover. Access to the Army Training Requirements and Resources System is limited to authorized personnel and as determined by the system manager.

Retention and disposal:

The following ATRRS reports are permanent for the offices performing Army-wide responsibility only: Army Program for Individual Training (ARPRINT), the Mobilization Army Program for Individual Training (MOB ARPRINT), and the Military Manpower Training Report (MMTR).

For all other offices, the ARPRINT, MOB ARPRINT and MMTR reports and all other ATRRS reports are kept until no longer needed for conducting business, but not longer than 6 years, then destroyed.

Records not classified as reports are destroyed when no longer needed for current operations.

System manager(s) and address:

Deputy Chief of Staff for Personnel, Headquarters, Department of the Army, 300 Army Pentagon, Washington, DC 20310-0300.

Notification procedure:

Individuals seeking to determine whether information about themselves is contained in this system should address written inquiries to the local commander. Official mailing addresses are published as an appendix to the Army's compilation of systems of records notices.

Individual should provide the full name, Social Security Number, and military status or other information verifiable from the record itself.

Record access procedures:

Individuals seeking access to information about themselves is contained in this system should address written inquiries to the local commander. Official mailing addresses are published as an appendix to the Army's compilation of systems of records notices.

Individual should provide the full name, Social Security Number, and military status or other information verifiable from the record itself.

Contesting record procedures:

The Army rules for accessing records, and for contesting contents and appealing initial agency determinations are contained in Army Regulation 340-21; 32 CFR part 505; or may be obtained from the system manager.

Record source categories:

Information is received from DoD staff, field installations, and automated systems.

Exemptions claimed for the system:

None.

[FR Doc. 02-30 Filed 1-2-02; 8:45 am]

BILLING CODE 5001-08-P